DEPARTMENT OF HEALTH AND HUMAN SERVICES

Agency for Toxic Substances and Disease Registry

Community and Tribal Subcommittee of the Board of Scientific Counselors, Agency for Toxic Substances and Disease Registry: Meeting

In accordance with section 10(a)(2) of the Federal Advisory Committee Act (Pub. L. 92-463), the Agency for Toxic Substances and Disease Registry (ATSDR) announces the following subcommittee and committee meetings.

Name: Community and Tribal Subcommittee (CTS).

Time and Date: 8:30 a.m.-4:30 p.m., February 27, 2002.

Place: Sheraton Buckhead Hotel, 3405 Lenox Road NE, Atlanta, Georgia 30326.

Status: Open to the public, limited by the available space. The meeting room accommodates approximately 50 people.

Purpose: This subcommittee brings to the Board advice, citizen input, and recommendations on community and tribal programs, practices, and policies of the Agency.

Matters to be Discussed: Agenda items include a presentation on ATSDR's Disease Registry activities; a presentation on ATSDR's Strategic Plan; an overview on the Public Health Assessment Guidance Manual; a report on the meeting at the Pentagon addressing health issues at federal facility sites; and a report on the progress with the external review of the CTS.

Written comments are welcomed and should be received by the contact person listed below prior to the opening of the meeting.

Agenda items are subject to change as priorities dictate.

Contact Person For More Information:

Ruby L. Palmer, Designated Federal Official, CTS/ATSDR contact, ATSDR, M/S E-54, 1600 Clifton Road, NE, Atlanta, Georgia 30333, telephone 404/498-1749.

The Director, Management Analysis and Services office has been delegated the authority to sign Federal Register notices pertaining to announcements of meetings and other committee management activities for both the Centers for Disease Control and Prevention and the Agency for Toxic Substances and Disease Registry.

Dated: January 31, 2002.
Alvin Hall,
Acting Director, Management Analysis and Services Office, Centers for Disease Control and Prevention.

[FR Doc. 02-2939 Filed 2-6-02; 8:45 am]

BILLING CODE 4163-70-P